DEPARTMENT OF HOUSING AND URBAN DEVELOPMENT

24 CFR Part 3500

[Docket No. FR-5180-N-02]

RIN 2502-AH85

Real Estate Settlement Procedures Act (RESPA) Proposed Rule To Improve the Process of Obtaining Mortgages and Reduce Consumer Settlement Costs: Extension of Public Comment Period

AGENCY: Office of the Assistant Secretary for Housing—Federal Housing Commissioner, HUD.

ACTION: Proposed rule: extension of public comment period.

SUMMARY: This notice extends the public comment period for an additional 30-day period for HUD's proposed rule entitled “Real Estate Settlement Procedures Act (RESPA); Proposed Rule to Improve the Process of Obtaining Mortgages and Reduce Consumer Settlement Costs,” published on March 14, 2008. The public comment period for this proposed rule is scheduled to close on May 13, 2008. HUD is extending the public comment period to June 12, 2008.

DATES: Comment Due Date: June 12, 2008.

ADDRESSES: Interested persons are invited to submit comments regarding this proposed rule. There are two methods for comments to be submitted as public comments and to be included in the public comment docket for this rule. Regardless of the method selected, all submissions must refer to the above docket number and title.

1. Submission of Comments by Mail. Comments may be submitted by mail to the Regulations Division, Office of General Counsel, Department of Housing and Urban Development, 451 Seventh Street, SW., Room 10276, Washington, DC 20410-0001.

2. Electronic Submission of Comments. Interested persons may submit comments electronically through the Federal eRulemaking Portal at http://www.regulations.gov. HUD strongly encourages commenters to submit comments electronically. Electronic submission of comments allows commenters maximum time to prepare and submit comments, ensures timely receipt by HUD, and enables HUD to make them immediately available to the public. Comments submitted electronically through the http://www.regulations.gov Web site can be viewed by other commenters and interested members of the public. Commenters should follow the instructions provided on that site to submit comments electronically.

Note: To receive consideration as public comments, comments must be submitted through one of the two methods specified above. Again, all submissions must refer to the docket number and title of the rule. No Facsimile Comments. Facsimile (FAX) comments are not acceptable.

Public Inspection of Public Comments. All properly submitted comments and communications submitted to HUD will be available, without charge, for public inspection and copying between 8 a.m. and 5 p.m. weekdays at the above address. Due to security measures at the HUD Headquarters building, an advance appointment to review the public comments must be scheduled by calling the Regulations Division at (202) 708-3055 (this is not a toll-free number). Individuals with speech or hearing impairments may access this number through TTY by calling the toll-free Federal Information Relay Service at (800) 877-8339. Copies of all comments submitted are available for inspection and downloading at http://www.regulations.gov.

FOR FURTHER INFORMATION CONTACT: Ivy Jackson, Director, or Barton Shapiro, Deputy Director, Office of RESPA and Interstate Land Sales, U.S. Department of Housing and Urban Development, 451 Seventh Street, SW., Room 9158, Washington, DC 20410; telephone number (202) 708-0502 (this is not a toll-free number). For legal questions, contact Paul S. Ceja, Assistant General Counsel for GSE/RESPA, Joan L. Kayagil, Deputy Assistant General Counsel for GSE/RESPA or Rhonda L. Daniels, Attorney-Advisor for GSE/RESPA, Room 9262; telephone number (202) 708-3137. Persons with hearing or speech impairments may access this number via TTY by calling the toll-free Federal Information Relay Service at (800) 877-8339.

SUPPLEMENTARY INFORMATION:

Background

HUD published its proposed rule entitled “Real Estate Settlement Procedures Act (RESPA); Proposed Rule to Improve the Process of Obtaining Mortgages and Reduce Consumer Settlement Costs,” on March 14, 2008 (73 FR 14030). This proposed rule presents HUD's proposal to simplify and improve the disclosure requirements for mortgage settlement costs under the Real Estate Settlement Procedures Act of 1974 (RESPA), to protect consumers from unnecessarily high settlement costs. In response to requests for extension of the public comment period, HUD has agreed to extend the public comment period for an additional 30 days.

Extension of Public Comment Period

The public comment period for HUD's RESPA proposed rule, published on March 14, 2008, is extended to June 12, 2008.

Dated: May 7, 2008.
Frank L. Davis,
General Deputy Assistant Secretary for Housing—Federal Housing Commissioner.

[FR Doc. E8-10634 Filed 5-9-08; 8:45 am]

BILLING CODE 4210-67-P